DEPARTMENT OF COMMERCE

International Trade Administration

[C-351-833]

Carbon and Certain Alloy Steel Wire Rod From Brazil: Final Results of the Expedited Second Sunset Review of the Countervailing Duty Order

AGENCY: Import Administration, International Trade Administration, Department of Commerce.

DATES: Effective October 2, 2013.

SUMMARY: The Department of Commerce (Department) finds that revocation of the countervailing duty (CVD) order on carbon and certain alloy steel wire rod (wire rod) from Brazil would be likely to lead to continuation or recurrence of countervailable subsidies.

FOR FURTHER INFORMATION CONTACT: Austin Redington or Nancy Decker, AD/CVD Operations, Office 1, Import Administration, International Trade Administration, U.S. Department of Commerce, 14th Street and Constitution Avenue NW., Washington, DC 20230; telephone (202) 482-1664 or (202) 482-0196, respectively.

SUPPLEMENTARY INFORMATION:

Background

On June 3, 2013, the Department initiated the second sunset review of the CVD order ¹ on wire rod from Brazil pursuant to section 751(c) of the Tariff Act of 1930, as amended (the Act).²

¹ See Final Affirmative Countervailing Duty Determination and Final Negative Critical Circumstances Determination: Carbon and Certain Alloy Steel Wire Rod from Brazil, 67 FR 55805 (August 30, 2002).

² See Initiation of Five-Year (“Sunset”) Review, 78 FR 33063 (June 3, 2013).

On June 18, 2013, the Department received a notice of intent to participate from the following domestic parties: ArcelorMittal USA LLC, Schnitzer Steel Industries, Inc., DBA Cascade Steel Rolling Mills, Inc., Evraz Rocky Mountain Steel, Gerdau Ameristeel US Inc., Keystone Consolidated Industries, Inc., and Nucor Corporation (collectively, domestic interested parties), within the deadline specified in 19 CFR 351.218(d)(1)(i). On July 2, 2013, the Department received an adequate substantive response from the domestic interested parties within the 30-day deadline specified in 19 CFR 351.218(d)(3)(i).

The Department did not receive any submissions from other interested parties. As a result, pursuant to 19 CFR 351.218(e)(1)(ii)(B)-(C), the Department is conducting an expedited (120-day) sunset review of the CVD order on wire rod from Brazil.

Scope of the Order

This order covers certain carbon and alloy steel wire rods. A full description of the scope of the order is contained in the Issues and Decision Memorandum,³ which is hereby adopted by this notice.

³ “Issues and Decision Memorandum for the Final Results of the Expedited Sunset Review of the Countervailing Duty Order on Carbon and Certain Alloy Steel Wire Rod from Brazil” from Christian Marsh, Deputy Assistant Secretary for Antidumping and Countervailing Duty Operations, to Paul Piquado, Assistant Secretary for Import Administration, dated October 1, 2013 (Issues and Decision Memorandum).

The Issues and Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://www.trade.gov/ia/. The signed Issues and Decision Memorandum and the electronic versions of the Issues and Decision Memorandum are identical in content.

Analysis of Comments Received

All issues raised in this review are addressed in the Issues and Decision Memorandum. The issues include the likelihood of continuation or recurrence of a countervailable subsidy and the net countervailable subsidy likely to prevail if the order was revoked.

Final Results of Review

Pursuant to sections 752(b)(1) and (3) of the Act, we determine that revocation of the CVD order on wire rod from Brazil would be likely to lead to continuation or recurrence of countervailable subsidies at the following net countervailable subsidy rates:

Manufacturers/producers/exporters | Net countervailable subsidy (percent)
Companhia Siderurgica Belgo-Mineira (Belgo Mineira) | 6.74
Gerdau S.A | 2.31
All Others | 4.53

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(b), and 777(i)(1) of the Act.

Dated: September 25, 2013.
Paul Piquado,
Assistant Secretary for Import Administration.

[FR Doc. 2013-24126 Filed 10-1-13; 8:45 am]

BILLING CODE 3510-DS-P